GENERAL SERVICES ADMINISTRATION

41 CFR Part 102-39

[FMR Amendment 2004-1; FMR Case 2003-102-2]

RIN 3090-AH92

Federal Management Regulation; Replacement of Personal Property Pursuant to the Exchange/Sale Authority

AGENCY: Office of Governmentwide Policy, General Services Administration (GSA).

ACTION: Final rule.

SUMMARY: The General Services Administration (GSA) revised the Federal Property Management Regulations (FPMR) by moving coverage related to the sale of personal property to the Federal Management Regulation (FMR). Because of the transfer of this coverage as well as the codification of Title 40 of the United States Code into positive law, several cross-references are no longer valid in existing FMR parts. This final rule amends the FMR by updating certain cross-references in 41 CFR part 102-39 and providing the new statutory citations to Title 40 of the United States Code.

DATES: Effective Date: March 11, 2004.

FOR FURTHER INFORMATION CONTACT: The Regulatory Secretariat, Room 4035, GS Building, Washington, DC, 20405, (202) 208-7312, for information pertaining to status or publication schedules. For clarification of content, contact Mr. Rick Bender, Office of Governmentwide Policy, Personal Property Management Policy, at (202) 501-3448. Please cite FMR case 2003-102-2, Amendment 2004-1.

SUPPLEMENTARY INFORMATION:

A. Background

GSA is in the process of revising the FPMR and transferring most of the content into a new, streamlined FMR. Several sections in FMR part 102-39 (41 CFR part 102-39) contain references to FPMR sections that no longer exist. This final rule amends the FMR by providing references to existing FMR sections concerning the sale of personal property.

B. Executive Order 12866

GSA has determined that this final rule is not a significant regulatory action for the purposes of Executive Order 12866 of September 30, 1993.

C. Regulatory Flexibility Act

This final rule is not required to be published in the Federal Register for comment. Therefore, the Regulatory Flexibility Act, 5 U.S.C. 601, et seq., does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-39

Government property management.

Dated: January 23, 2004.
Stephen A. Perry,
Administrator of General Services.

For the reasons set forth in the preamble, GSA amends 41 CFR part 102-39 as set forth below:

PART 102-39—REPLACEMENT OF PERSONAL PROPERTY PURSUANT TO THE EXCHANGE/SALE AUTHORITY

1. The authority citation for 41 CFR part 102-39 continues to read as follows:

Authority: 40 U.S.C. 503 and 121(c).

§ 102-39.10 [Amended]

2. Amend § 102-39.10 by removing “101-37” from the last sentence and adding “102-33” in its place.

3. Amend § 102-39.30 by revising the second sentence to read as follows:

§ 102-39.30 When should I not use the exchange/sale authority?

* * * You must either abandon or destroy such property, or declare the property excess, in accordance with part 102-36 of this chapter. * * *

§ 102-39.40 [Amended]

4. Amend § 102-39.40 in the second sentence of paragraph (b) by removing “§ 101-45.304-12” and adding “§ 102-38.125” in its place.

§ 102-39.45 [Amended]

5. Amend § 102-39.45 in paragraph (i) by removing “§ 101-37.610” and adding “§ 102-33.370” in its place.

6. Amend § 102-39.65 in the introductory text of paragraph (a) by revising the first sentence; and in paragraph (b) by removing “§ 101-45.304-2(b)” and adding §§ 102-38.120 and 102-38.125” in its place. The revised text reads as follows:

§ 102-39.65 What are the sales methods?

(a) You must use the methods, terms, and conditions of sale, and the forms prescribed in part 102-38 of this title, in the sale of property being replaced, except for the provisions of §§ 102-38.100 through 102-38.115 of this title regarding negotiated sales. * * *

* * * * *

[FR Doc. 04-5409 Filed 3-10-04; 8:45 am]

BILLING CODE 6820-14-P